GENERAL ACCOUNTING OFFICE

Appointments to the Medicare Payment Advisory Commission

AGENCY: General Accounting Office (GAO).

ACTION: Notice of appointments.

SUMMARY: The Balanced Budget Act of 1997 established the Medicare Payment Advisory Commission (MedPAC) and gave the Comptroller General responsibility for appointing its members. This notice announces four new appointments and two reappointments to fill the vacancies occurring this year.

DATES: Appointments are effective May 1, 2004 through April 30, 2007.

ADDRESSES: GAO: 441 G Street, NW., Washington, DC 20548. MedPAC: 601 New Jersey Avenue, NW., Suite 9000, Washington, DC 20001.

FOR FURTHER INFORMATION CONTACT: GAO: Molly Ryan, (202) 512-3592. MedPAC: Mark E. Miller, Ph.D., (202) 220-3700.

SUPPLEMENTARY INFORMATION: To fill this year's vacancies I am announcing the following:

Newly appointed members are John M. Bertko, F.S.A., M.A.A.A., vice president and chief actuary, Humana Inc.; Francis J. Crosson, M.D., executive director, the Permanente Federation, LLC; Arnold Milstein, M.D., M.P.H., medical director, Pacific Business Group on Health and U.S. health care thought leader, Mercer Human Resource Consulting; and William J. Scanlon, Ph.D., health policy consultant. Reappointed members are Sheila P. Burke, M.P.A., R.N., under secretary for American museums and national programs, Smithsonian Institution; and Ralph W. Muller, chief executive officer, University of Pennsylvania Health System.

(Sec. 4022, Pub. L. 105-33, 111 Stat. 251, 350)

David M. Walker,
Comptroller General of the United States.

[FR Doc. 04-12762 Filed 6-4-04; 8:45 am]

BILLING CODE 1610-02-M